DEPARTMENT OF ENERGY

Federal Energy Regulatory Commission

[Docket No. RP98-52-000]

Williams Gas Pipelines Central, Inc.; Notice of Informal Settlement Conference

June 12, 2000.

On March 13 and 28, 2000, the Kansas Corporation Commission (KCC) sponsored two informal settlement conferences for the purpose of initiating settlement discussions potentially leading to a resolution of all the Kansas ad valorem proceedings. During the March 28 conference, the participants agreed that settlement negotiations among all interested parties should be pursued separately for each pipeline involved with the Kansas ad valorem tax refund issues.

An informal settlement conference in the above docket will be held on July, 11, 2000, at the offices of Shook, Hardy & Bacon, 1 Kansas City Place, 1200 Main Street, Kansas, Missouri. The Director of the Commission's Dispute Resolution Service and the KCC will attend the conference and facilitate the settlement negotiations.

All interested parties in the above dockets are requested to attend the informal settlement conference. If a party has any questions respecting the conference, please call Richard Miles, the Director of the Dispute Resolution Service. His telephone number is 1 877 FERC ADR (337-2237) or 202-208-0702 and his e-mail address is richard.miles@ferc.fed.us.

David P. Boergers,
Secretary.

[FR Doc. 00-15271 Filed 6-15-00; 8:45 am]

BILLING CODE 6717-01-M